DEPARTMENT OF DEFENSE

Office of the Secretary

[Docket ID: DoD-2013-OS-0125]

Privacy Act of 1974; System of Records

AGENCY: Defense Information Systems Agency, DoD.

ACTION: Notice to alter a System of Records.

SUMMARY: The Defense Information Systems Agency proposes to alter a system of records in its existing inventory of record systems subject to the Privacy Act of 1974 (5 U.S.C. 552a), as amended.

DATES: This proposed action will be effective on August 26, 2013 unless comments are received which result in a contrary determination. Comments will be accepted on or before August 26, 2013.

ADDRESSES: You may submit comments, identified by docket number and title, by any of the following methods:

* Federal Rulemaking Portal: http://www.regulations.gov. Follow the instructions for submitting comments.

* Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Jeanette Weathers-Jenkins, DISA Privacy Officer, Chief Information Office, 6916 Cooper Avenue, Fort Meade, MD 20755-7901, or by phone at (301) 225-8158.

SUPPLEMENTARY INFORMATION: The Defense Information Systems Agency notices for system of records subject to the Privacy Act of 1974 (5 U.S.C. 552a), as amended, have been published in the Federal Register and are available from the address in FOR FURTHER INFORMATION CONTACT or from the Defense Privacy and Civil Liberties Office Web site http://dpclo.defense.gov/privacy/SORNs/component/disa/index.html. The proposed system report, as required by 5 U.S.C. 552a(r) of the Privacy Act of 1974, as amended, was submitted on June 3, 2013, to the House Committee on Oversight and Government Reform, the Senate Committee on Governmental Affairs, and the Office of Management and Budget (OMB) pursuant to paragraph 4c of Appendix I of OMB Circular No. A-130, Federal Agency Responsibilities for Maintaining Records About Individuals,” dated February 8, 1996 (February 20, 1996, 61 FR 6427).

Dated: July 23, 2013.
Aaron Siegel,
Alternate OSD Federal Register Liaison Officer, Department of Defense.

K890.08

System name:

Recall Roster/Locator Records (July 6, 2005, 70 FR 38892)

* * * * *

Changes:

System location:

Delete entry and replace with “Defense Information Systems Agency (DISA), Chief Information Office (CIO), 6916 Cooper Ave., Ft. Meade, MD 20755-7901.”

Categories of individuals covered by the system:

Delete entry and replace with “Civilian employees, military personnel and contractors assigned to DISA.”

Categories of records in the system:

Delete entry and replace with “Individual's name, emergency contact information, organizational and home address, work and home telephone numbers, email address, and cell phone number.”

Authority for maintenance of the system:

Delete entry and replace with “5 U.S.C. 301, Department Regulations; 10 U.S.C. 136, Under Secretary of Defense for Personnel and Readiness; E.O. 12656, Assignment of Emergency Preparedness Responsibilities; Presidential Decision Directive 67, Enduring Constitutional Government and Continuity of Government Operations; Federal Preparedness Circular 65, Federal Executive Branch Continuity of Operations; and DoD Directive 3020.36, Assignment of National Security Emergency Preparedness (NSEP) Responsibilities to DoD Components.”

Purpose(s):

Delete entry and replace with “Information is collected and maintained to ensure that DISA has the capability to recall personnel to their place of duty when required, for use in emergency notification, and to perform relevant functions/requirements/actions consistent with DISA mission.”

* * * * *

Storage:

Delete entry and replace with “Records may be stored on paper and/or electronic storage media.”

Retrievability:

Delete entry and replace with “Retrieve by full name.”

Safeguards:

Delete entry and replace with “Records are maintained in a controlled facility. Physical entry is restricted by the use of locks, guards, password protection and is accessible only to authorized personnel. Access to records is limited to person(s) responsible for servicing the record in performance of their official duties and who are properly screened and cleared for need-to-know. Access to computerized data is restricted by Common Access Card (CAC) and/or password which are changed periodically.”

Retention and disposal:

Delete entry and replace with “Records are continuously updated. Records that are no longer current are destroyed by shredding, pulping, macerating, or burning. Obsolete computer records are erased or overwritten.”

System manager(s) and address:

Delete entry and replace with “DISA Privacy Officer, Defense Information Systems Agency (DISA), Chief Information Office (CIO), 6916 Cooper Ave, Fort Meade, MD 20755-7901.”

Notification procedure:

Delete entry and replace with “Individuals seeking to determine whether information about themselves is contained in this system of records should address written inquiries to the Defense Information Systems Agency, Chief Information Office (CIO), 6916 Cooper Ave, Fort Meade, MD 20755-7901.

The full name, home address, and telephone number of the requesting individual will be required to determine if the system contains a record about him or her. As proof of identity the requester must present a current DISA identification badge or a driver's license.”

Record access procedures:

Delete entry and replace with “Individuals seeking access to information about them contained in this system of records should address written inquiries to the Defense Information Systems Agency, Chief Information Office (CIO), 6916 Cooper Ave, Fort Meade, MD 20755-7901.

The full name, home address, telephone number of the requesting individual will be required to determine if the system contains a record about him or her. As proof of identity the requester must present a current DISA identification badge or a driver's license.”

Contesting record procedures:

Delete entry and replace with “DISAs rules for accessing records, for contesting content and appealing initial agency determinations are published in DISA Instruction 210-225-2; 32 CFR part 316; or may be obtained from the DISA Privacy Officer.”

Record source categories:

Delete entry and replace with “Information is obtained from the subject individual and official personnel office documents.”

* * * * *

[FR Doc. 2013-17986 Filed 7-25-13; 8:45 am]

BILLING CODE 5001-06-P